DEPARTMENT OF HEALTH AND HUMAN SERVICES

Administration for Community Living

Agency Information Collection Activities; Submission for OMB Review; Public Comment Request; of the Evaluation of the National Paralysis Resource Center (NPRC) and Performance Management Support OMB Control Number 0985-New

AGENCY: Administration for Community Living, HHS.

ACTION: Notice.

SUMMARY: The Administration for Community Living is announcing that the proposed collection of information listed above has been submitted to the Office of Management and Budget (OMB) for review and clearance as required under the Paperwork Reduction Act of 1995. This 30-day notice collects comments on the information collection requirements related to the Evaluation of the National Paralysis Resource Center (NPRC) and Performance Management Support.

DATES: Submit written comments on the collection of information by March 27, 2023.

ADDRESSES: Submit written comments and recommendations for the proposed information collection within 30 days of publication of this notice to www.reginfo.gov/public/do/PRAMain. Find the information collection by selecting “Currently under 30-day Review—Open for Public Comments” or by using the search function. By mail to the Office of Information and Regulatory Affairs, OMB, New Executive Office Bldg., 725 17th St. NW, Rm. 10235, Washington, DC 20503, Attn: OMB Desk Officer for ACL.

FOR FURTHER INFORMATION CONTACT: Amanda Cash, 202-795-7369 or evaluation@acl.hhs.gov.

SUPPLEMENTARY INFORMATION: In compliance with 44 U.S.C. 3507, ACL has submitted the following proposed collection of information to OMB for review and clearance. The Administration for Community Living (ACL) is requesting approval to collect data for the National Paralysis Resource Center (NPRC) to understand how and to what extent the NPRC is meeting its goals. The NPRC provides resources to people living with paralysis, their caregivers, and their support network. ACL is responsible for oversight of the NPRC, which has been administered by the Christopher and Dana Reeve Foundation since its authorization in 2009. This data collection effort will be focused on evaluating specific major activities of the NPRC: (a) the Quality of Life (QOL) Grants Program; (b) the Peer and Family Support Program (PFSP); and (c) the Promotional Activities, Outreach, and Collaboration program.

This evaluation seeks to identify barriers and challenges to operating the NPRC, document best practices for other Resource Centers, and recommend areas for improvement.

Specifically, this IC will help ACL to understand how each major NPRC activity aims to achieve the following goals, and to what extent the activities affect related outcomes:

a. Improving the health and quality of life of individuals living with paralysis of all ages, their families, and their support network;

b. Raising awareness of members of the target populations about paralysis;

c. Increasing access of members of the target populations to services relevant to individuals with paralysis;

d. Increasing the empowerment, confidence, and independence of individuals living with paralysis;

e. Strengthening support networks for individuals living with paralysis; and

f. Improving and increasing opportunities for community living for individuals living with paralysis and their caretakers.

To gain an in-depth understanding of the perspectives of mentors and peers participating in the PFSP, QOL program subgrantees, and people who serve as regional champions in the Promotional Activities, Outreach, and Collaboration program, eight focus groups will be conducted with no more than eight people per focus group. Additionally, a web-based survey will be administered to a maximum of 400 PFSP peers, 180 PFSP mentors, and 300 people served by QOL subgrantees to understand respondents' experiences with the NPRC.

This data will contribute to documenting how each of the NPRC's major activities are delivered and the extent to which they improve the quality of life of people living with paralysis, their caregivers, and their support networks.

Findings can inform practice for the NPRC and other Resource Centers. This evaluation will also help to identify how the NPRC can better meet the stated goals of the Department of Health and Human Services (HHS) to, “protect and strengthen equitable access to high quality and affordable healthcare,” and to, “strengthen social well-being, equity, and economic resilience.” ¹

¹ FY 2023 Evaluation Plan (p. 3). (2022). U.S. Department of Health & Human Services. https://aspe.hhs.gov/reports/fy-2023-hhs-evaluation-plan.

Comments in Response to the 60-Day Federal Register Notice

A notice published in the Federal Register Vol. 87, No. 207 pages 65068-65069 on October 27, 2022. No public comments were received during the 60-day FRN.

Estimated Program Burden: ACL estimates the burden of this collection of information as follows:

The eight focus groups together will include no more than 64 total individuals representing three major activities of the NPRC: the QOL Grants Program; the PFSP; and the Promotional Activities, Outreach, and Collaboration program. The burden for their participation is estimated at 1.5 hours per participant, for a total of 96 hours.

A maximum of 180 PFSP mentors, 400 PFSP peers, and 300 people served by QOL subgrantee programs are expected to respond to the web-based survey, for a total of 880 respondents. The approximate burden for survey completion is 15 minutes for the peer mentor survey, and 10 minutes for the peer survey and QOL end-user survey per respondent. In addition, an estimated 5 minute non-response survey will be administered to the PFSP mentors and PFSP peers who did not respond to the web-based survey.

This results in a total survey burden estimate of 14,050 minutes (234.17 hours). The estimated survey completion burden includes time to review the instructions, read the questions, and complete responses.

Data collection form | Respondent type | Number of respondents | Responses per respondent | Hours per response | Annual burden hours * | Cost per hour | Annual burden cost
Focus group—Quality of Life organizational representatives | Private sector—business, non-profit, or local government | 24 | 1 | 1.50 | 36 | ¹ $45.01 | $1,620.36
Focus group—Peer Mentors | Individual | 16 | 1 | 1.50 | 24 | ² 28.01 | 672.24
Focus group—Peer Mentees | Individual | 16 | 1 | 1.50 | 24 | ² 28.01 | 672.24
Focus group—Regional Champions | Individual | 8 | 1 | 1.50 | 12 | ² 28.01 | 336.12
Survey—Peer Mentor | Individual | 180 | 1 | 0.25 | 45 | ² 28.01 | 1,260.45
Survey—Peers | Individual | 400 | 1 | 0.17 | 68 | ² 28.01 | 1,904.68
Survey—Quality of Life End-User | Individual | 300 | 1 | 0.17 | 51 | ² 28.01 | 1,428.51
Survey—Non-response follow-up (Peer Mentor) | Individual | 85 | 1 | 0.08 | 6.8 | ² 28.01 | 190.47
Survey—Non-response follow-up (Peers) | Individual | 230 | 1 | 0.08 | 18.4 | ² 28.01 | 515.38
Total |  | 1,259 |  | .23 (weighted mean) | 285.2 |  | 8,600.45
* This is maximum number of hours for year one of data collection which is the largest year for data collection.
¹ Bureau of Labor Statistics, Mean hourly wage for Social and Community Service Managers, May 2021 National Occupational Employment and Wage Estimates by ownership, Local government, including schools and hospitals, https://www.bls.gov/oes/current/999301.htm#21-0000.
² Bureau of Labor Statistics, Mean hourly wage for All Occupations, May 2021 National Occupational Employment and Wage Estimates, United States, https://www.bls.gov/oes/current/oes_nat.htm#00-0000.
* Annual burden hours were calculated from total minutes for each activity divided by sixty.

Dated: February 17, 2023.
Alison Barkoff,
Acting Administrator and Assistant Secretary for Aging.

[FR Doc. 2023-03740 Filed 2-22-23; 8:45 am]

BILLING CODE 4154-01-P